DEPARTMENT OF VETERANS AFFAIRS

Advisory Committee on Former Prisoners of War; Notice of Meeting

The Department of Veterans Affairs (VA) gives notice under Public Law 92-463 (Federal Advisory Committee Act) that the Advisory Committee on Former Prisoners of War has scheduled a meeting on May 16-18, 2011, at the Marriott Residence Inn, Arlington Pentagon City, 550 Army Navy Drive, Arlington, Virginia. The meeting will begin at 9 a.m. and adjourn at 4 p.m. each day. The meeting is open to the public.

The purpose of the Committee is to advise the Secretary of Veterans Affairs on the administration of benefits under title 38, United States Code, for veterans who are former prisoners of war, and to make recommendations on the needs of such veterans for compensation, health care, and rehabilitation.

On May 16, the Committee will hear from its Chairman and the Director, Compensation and Pension Service. They will receive briefings on the Robert E. Mitchell Center and Employee Education System. In the afternoon, the Committee will receive additional briefings on outreach to the Former Prisoner of War (FPOW) community and training for FPOW coordinators and doctors. On the morning of May 17, the Committee will receive an update on the Veterans Health Initiative and Compensation and Pension. In the afternoon, the Committee will hear recommendations and topics of discussion. On May 18, the Committee will discuss their 2011 recommendations and draft of their final Committee report.

Public comments will be received at 2 p.m. on May 17. Individuals who speak are invited to submit a 1-2 page summaries of their comments for inclusion in the official meeting record. Members of the public may also submit written statements for the Committee's review to Mr. Jim Adams, Executive Assistant, Compensation and Pension Service, Department of Veterans Affairs, 810 Vermont Avenue, NW., Washington, DC 20420, or e-mail at jim.adams1@va.gov. Any member of the public seeking additional information should contact Mr. Adams at (202) 461-9659.

Dated: April 26, 2011.
By Direction of the Secretary.
William F. Russo,
Director of Regulations Management, Office of General Counsel.

[FR Doc. 2011-10484 Filed 4-29-11; 8:45 am]

BILLING CODE 8320-01-P